DEPARTMENT OF JUSTICE

Antitrust Division

Notice Pursuant to the National Cooperative Research and Production Act of 1993—Network Centric Operations Industry Consortium, Inc.

Notice is hereby given that, on June 20, 2006, pursuant to Section 6(a) of the National Cooperative Research and Production Act of 1993, 15 U.S.C. 4301 et seq. (“Act”), Network Centric Operations Industry Consortium, Inc. has filed written notifications simultaneously with the Attorney General and the Federal Trade Commission disclosing changes in its membership. The notifications were filed for the purpose of extending the Act's provisions limiting the recovery of antitrust plaintiffs to actual damages under specified circumstances. Specifically, American Red Cross, Washington, DC; Open Geospatial Consortium, Inc., Wayland, MA; Management and Engineering Technologies International, Inc., El Paso, TX; Gallium Software Inc., Ottawa, Ontario, Canada; and SPARTA, Inc., Arlington, VA have been added as parties to this venture. Also, West Virginia High Technology Consortium Foundation, Fairmont, WV; MBL International, Ltd., Annandale, VA; Crystal Group, Inc., Hiawatha, IA; and FlightSafety International, Flushing, NY have withdrawn as parties to this venture.

No other changes have been made in either the membership or planned activity of the group research project. Membership in this group research project remains open, and Network Centric Operations Industry Consortium, Inc. intends to file additional written notification disclosing all changes in membership.

On November 19, 2004, Network Centric Operations Industry Consortium, Inc. filed its original notification pursuant to Section 6(a) of the Act. The Department of Justice published a notice in the Federal Register pursuant to Section 6(b) of the Act on February 2, 2005 (70 FR 5486).

The last notification was filed with the Department on April 10, 2006. A notice was published in the Federal Register pursuant to Section 6(b) of the Act on May 10, 2006 (71 FR 27280).

Dorothy B. Fountain,
Deputy Director of Operations, Antitrust Division.

[FR Doc. 06-6360 Filed 7-19-06; 8:45 am]

BILLING CODE 4410-11-M